DEPARTMENT OF COMMERCE

National Oceanic and Atmospheric Administration

RIN 0648-BD07

Fisheries of the Caribbean, Gulf of Mexico, and South Atlantic; Snapper-Grouper Fishery Off the South Atlantic States; Regulatory Amendment 14

AGENCY: National Marine Fisheries Service (NMFS), National Oceanic and Atmospheric Administration (NOAA), Commerce.

ACTION: Notice of Intent (NOI) to prepare a draft environmental impact statement (DEIS); request for comments.

SUMMARY: NMFS, Southeast Region, in collaboration with the South Atlantic Fishery Management Council (Council), intends to prepare a DEIS to describe and analyze a range of alternatives for management actions to be included in Regulatory Amendment 14 to the Fishery Management Plan (FMP) for the Snapper-Grouper Fishery of the South Atlantic Region (Regulatory Amendment 14). In Regulatory Amendment 14, the Council is considering management measures to modify the fishing year for greater amberjack; revise the minimum size limit measurement for gray triggerfish; increase the minimum size limit for hogfish; modify the commercial and recreational fishing years for black sea bass; adjust the commercial fishing season for vermilion snapper; modify the aggregate grouper bag limit; and revise the accountability measures (AMs) for gag and vermilion snapper. The intent of Regulatory Amendment 14 is to achieve optimum yield (OY) for snapper-grouper species and enhance socio-economic opportunities within the snapper-grouper fishery. The purpose of this NOI is to solicit public comments on the scope of issues to be addressed in the DEIS.

DATES: Written comments on the scope of issues to be addressed in the DEIS will be accepted until May 17, 2013.

ADDRESSES: You may submit comments identified by “NOAA-NMFS-2013-0052” by any of the following methods:

• Electronic submissions: Submit electronic comments via the Federal e-Rulemaking Portal: http://www.regulations.gov. Go to www.regulations.gov/#!docketDetail;D=NOAA-NMFS-2013-0052, click the “Comment Now!” icon, complete the required fields, and enter or attach your comments.

• Mail: Submit written comments to Nikhil Mehta, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Nikhil Mehta, Southeast Regional Office, telephone: 727-824-5305, or email: nikhil.mehta@noaa.gov.

SUPPLEMENTARY INFORMATION:

Background

In Regulatory Amendment 14, the Council is considering actions to modify the fishing year for greater amberjack; revise the minimum size limit measurement for gray triggerfish; increase the minimum size limit for hogfish; modify the commercial and recreational fishing year for black sea bass; adjust the commercial fishing season for vermilion snapper; modify the aggregate grouper bag limit; and revise the AMs for gag and vermilion snapper.

Greater Amberjack Fishing Year

The current fishing year for greater amberjack is May 1 through April 30. Regulatory Amendment 14 would examine the effects of alternatives to modify this fishing year, especially with respect to when the commercial annual catch limit (ACL) for greater amberjack is being reached. When the commercial ACL is reached, the a.m. triggered is an inseason closure of the commercial sector. Some fishers have requested that the month of March remain open to harvest, because it is a productive month for fishing (i.e., consumers tend to buy more fish during Lent). Also, greater amberjack migrate out of the Florida Keys by mid-May, thereby offering a limited fishing opportunity for greater amberjack at the start of the current fishing year. In Regulatory Amendment 14, the Council is considering alternatives to the fishing year with the purpose of ensuring commercial harvest opportunities occur during March of each year.

Gray Triggerfish Minimum Size Limit

For Federal waters off the east coast of Florida, the gray triggerfish minimum size limit is 12 inches (30.5 cm) total length. The state of Florida minimum size limit is 12 inches (30.5 cm) fork length. The Council is considering alternatives to use the same length measurement for gray triggerfish in Federal waters off Florida and other South Atlantic states as used in state waters of Florida. A consistent minimum size limit would reduce confusion among the public, better assist law enforcement, and promote efficient management of this species.

Hogfish Minimum Size Limit

The Council is considering alternatives to revise the hogfish minimum size limit, which is 12 inches (30.5 cm), fork length. The Council's Snapper-Grouper Advisory Panel also expressed concern about the harvest of undersized hogfish before they have the opportunity to reproduce.

Black Sea Bass Fishing Year

The Council is considering alternatives to modify the commercial and recreational fishing seasons, which begin on June 1, to coincide with other snapper-grouper species to reduce the likelihood of closures being implemented early in the fishing season and to extend fishing opportunities for both sectors throughout the year.

Vermilion Snapper Fishing Seasons

The commercial fishing season for vermilion snapper is currently split into two seasons, January 1 through June 30, and July 1 through December 31. The Council is considering alternatives to modify the start of the second season to coincide with openings of other snapper-grouper species to extend fishing opportunities for vermilion snapper. An adjustment to the start date of the second season may allow for additional harvest opportunities, as well as reduce the potential for extended seasonal closures as a result of reaching the ACL and triggering AMs.

Vermilion Snapper Recreational AMs

Regulatory Amendment 18 to the FMP, which was approved by the Council in March of 2013, would remove the recreational vermilion snapper spawning season closure that occurs from November through March. The current recreational sector a.m. reduces the recreational sector ACL in the year following an ACL overage by the amount of that ACL overage. Therefore, without the seasonal closure, there is no method in place to close the sector during the fishing year which can lead to an overage of the ACL. In Regulatory Amendment 14, the Council is considering alternatives to revise the recreational sector AMs to ensure the ACL is not exceeded and overfishing does not occur.

Gag Commercial Trip Limits

In Regulatory Amendment 14 the Council is considering commercial trip limit alternatives as a method to extend the fishing season for gag.

Grouper Aggregate Recreational Bag Limit

The current grouper aggregate bag limit is three fish and within this limit, no more than one fish may be a gag or black grouper, combined. In Regulatory Amendment 14, the Council is considering alternatives to revise this aggregate bag limit to provide for increased recreational harvest opportunities for gag and black grouper.

NMFS, in collaboration with the Council, will develop a DEIS to describe and analyze alternatives to address the management needs described above. Those alternatives will include a “no action” alternative for each action. In accordance with NOAA's Administrative Order 216-6, Section 5.02(c), Scoping Process, NMFS, in collaboration with the Council, has identified preliminary environmental issues as a means to initiate discussion for scoping purposes only. These preliminary issues may not represent the full range of issues that eventually will be evaluated in the DEIS.

After the DEIS associated with Regulatory Amendment 14 is completed, it will be filed with the Environmental Protection Agency (EPA). After filing, the EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

NMFS will announce, through a document published in the Federal Register, all public comment periods on the final amendment, its proposed implementing regulations, and the availability of its associated FEIS. NMFS will consider all public comments received during the Secretarial review period, whether they are on the final amendment, the proposed regulations, or the FEIS, prior to final agency action.

Public Hearings, Times, and Locations

The Council will hold public hearings to discuss the actions included in Regulatory Amendment 14 in August 2013. Exact dates, times, and locations will be announced by the Council. The public will be informed, via a notification in the Federal Register, of the exact times, dates, and locations of future scoping meetings and public hearings for Regulatory Amendment 14.

Authority: 16 U.S.C. 1801 et seq.

Dated: April 12, 2013.
Kara Meckley,
Acting Deputy Director, Office of Sustainable Fisheries, National Marine Fisheries Service.

[FR Doc. 2013-09052 Filed 4-16-13; 8:45 am]

BILLING CODE 3510-22-P